DEPARTMENT OF THE INTERIOR

Fish and Wildlife Service

Notice of Receipt of Applications for Renewal for Endangered Species Permit

AGENCY: U.S. Fish and Wildlife Service, Department of the Interior.

ACTION: Notice of receipt.

SUMMARY: The following applicant has applied for a permit to conduct certain activities with endangered species. This notice is provided pursuant to section 10(c) of the Endangered Species Act of 1973, as amended (16 U.S.C. 1531 et seq.):

PRT-697823

Applicant: Assistant Regional Director, Ecological Services, U.S. Fish and Wildlife Service, Hadley, Massachusetts

DATES: Written data or comments on this application must be received at the address given below by April 14, 2003.

ADDRESSES: Documents and other information submitted with this application are available for review by any party who submits a written request for a copy of such documents to the following office within 30 days of the date of publication of this notice: U.S. Fish and Wildlife Service, 300 Westgate Center Drive, Hadley, Massachusetts 01035. Attention: Diane Lynch, Regional Endangered Species Permits Coordinator. Telephone: (413) 253-8628; Facsimile: (413) 253-8482.

FOR FURTHER INFORMATION CONTACT: Diane Lynch, Telephone: (413) 253-8628; Facsimile: (413) 253-8482.

SUPPLEMENTARY INFORMATION: You are invited to comment on the application from the Assistant Regional Director, Ecological Services, PRT-TE697823. This applicant requests renewal of their current permit for take activities for all listed species in the states of Connecticut, Delaware, Maine, Maryland, Massachusetts, New Hampshire, New Jersey, New York, Pennsylvania, Rhode Island, Vermont, Virginia, West Virginia and the District of Columbia for the purpose of scientific research and enhancement of propagation or survival of the species as prescribed by U.S. Fish and Wildlife Service recovery documents.

Dated: February 26, 2003.
Richard O. Bennett,
Acting Regional Director.

[FR Doc. 03-6041 Filed 3-12-03; 8:45 am]

BILLING CODE 4310-55-M